LEGAL SERVICES CORPORATION

45 CFR Part 1611

Solicitation for Expressions of Interest in Participation in Negotiated Rulemaking Working Group

AGENCY: Legal Services Corporation.

ACTION: Request for expressions of interest in participation in Negotiated Rulemaking Working Group.

SUMMARY: LSC is conducting a Negotiated Rulemaking to consider revisions to its eligibility regulations at 45 CFR Part 1611. LSC hereby solicits expressions of interest in appointment to the Working Group from the regulated community, its clients, advocates, the organized bar and other interested parties.

DATES: Expressions of interest must be received by September 25, 2001.

FOR FURTHER INFORMATION CONTACT: Mattie C. Condray, Senior Assistant General Counsel, Legal Services Corporation, 750 First Street NE., Washington, DC 20002-4250; (202) 336-8817; mcondray@lsc.gov.

SUPPLEMENTARY INFORMATION: 45 CFR part 1611 sets forth the requirements relating to determination and documentation of client eligibility. The current version of 1611 was adopted in 1983. There have been two proposed revisions to 1611 published since then, one in 1989 and another in 1995, but neither rulemaking was completed. Many outstanding issues prompting the 1995 proposed rulemaking remain extant and there are other issues, particularly related to documentation requirements, which are appropriate for discussion. In addition, there is a FY1998 statutory change which should be incorporated into the regulation.

In light of the above, the LSC Board of Directors identified 45 CFR part 1611, Eligibility, as an appropriate subject for rulemaking on January 27, 2001. On June 30, 2001, the LSC President and the Chair of the Operations and Regulations Committee made a determination to proceed with the institution of a Negotiated Rulemaking to consider amendments to Part 1611. In accordance with the LSC Rulemaking Protocol, LSC is now formally soliciting suggestions for appointment to the Working Group from the regulated community, its clients, advocates, the organized bar and other interested parties.

The Negotiated Rulemaking Working Group

LSC anticipates that the Working Group will be a group of 15-20 persons comprised of LSC representatives and affected and/or interested parties (i.e., individual recipients, clients, national organizations, local and national bar associations, etc.). LSC anticipates that the Working Group will include LSC representatives from the Office of Legal Affairs, the Office of Program Performance, and the Office of Compliance and Enforcement, along with a liaison from the Office of Inspector General. LSC is seeking external members representing national legal services advocacy organizations; individual recipients (preferably reflecting large/small and/or urban/rural diversity); clients; national and local organized bar associations; and other interested stakeholders. While there are no specific “criteria” for membership, it is expected that members will have the support of their organizations in participating in the effort and be knowledgeable about the issues.

Once appointed, the Working Group will meet under the direction of a trained facilitator with the aim of developing a consensus-based proposed rule. LSC expects that the Working Group will meet in 2-3 day, face-to-face sessions over the coming several months.

Solicitation of Expressions of Interest in Appointment to the Working Group

LSC hereby solicits expressions of interest in appointment to the Working Group from the regulated community, its clients, advocates, the organized bar and other interested parties. Expressions of interest must be submitted no later than 15 days from the date of publication of this notice. Expressions of interest must be submitted in writing (by regular mail, fax or email) to LSC's Mattie Condray at the addresses listed in this notice.

Once LSC has received expressions of interest, the President, working in consultation with the Operations and Regulations Committee, acting through its Chair, will make appointments of individuals and organizations to the Working Group. Groups or organizations asked to participate in the Working Group will be responsible for selecting and designating their own representatives.

Victor M. Fortuno,
General Counsel and Vice President for Legal Affairs.

[FR Doc. 01-22595 Filed 9-7-01; 8:45 am]

BILLING CODE 7050-01-P